DEPARTMENT OF TRANSPORTATION

Coast Guard

33 CFR Part 117

[CGD05-00-055]

Drawbridge Operation Regulations; Great Egg Harbor Bay, New Jersey

AGENCY: Coast Guard, DOT.

ACTION: Notice of temporary deviation from regulations.

SUMMARY: The Commander, Fifth Coast Guard District, has approved a temporary deviation from the regulations governing the operation of the Route 9/Beesleys Point Bridge across Great Egg Harbor Bay, mile 3.5, between Somers Point and Beesleys Point, in New Jersey. Beginning at 7 a.m. on January 22, 2001, through 5 p.m. on March 22, 2001, the bridge may remain in the closed position. This closure is necessary to conduct the installation of a new deck.

DATES: This deviation is effective from 7 a.m. on January 22, 2001, until 5 p.m. on March 22, 2001.

FOR FURTHER INFORMATION CONTACT: Ann B. Deaton, Bridge Administrator, Fifth Coast Guard District, at (757) 398-6222.

SUPPLEMENTARY INFORMATION: The Coast Guard received a letter by fax from the contractor on December 1, 2000, requesting a temporary deviation from the current operating schedule of the Route 9/Beesleys Point Bridge. The draw currently is required to open on signal at all times. This requirement is included in the general operating regulations at 33 CFR 117.5. The contractor intends to install a new deck on the bascule span of the bridge. To facilitate the installation, the bascule span will be bolted down in the closed position so that the old deck can be removed and a new deck installed. This work requires completely immobilizing the operation of the bascule span. In the event of an emergency, openings of the span will be provided as quickly as possible, but may take up to 48 hours to accomplish. Requests for emergency openings can be made by calling the bridge manager at (609) 390-3190 or (609) 624-0949.

In accordance with 33 CFR 117.35, the District Commander approved the contractor's request for a temporary deviation from the governing regulations in a letter dated December 12, 2000.

The Coast Guard has informed the known commercial users of the waterway of the bridge closure so that these vessels can arrange their transits to minimize any impact caused by the temporary deviation.

The temporary deviation allows the Route 9/Beesleys Point Bridge across Great Egg Harbor, mile 3.5, between Somers Point and Beesleys Point, New Jersey to remain closed from 7 a.m. on January 22, 2001, until 5 p.m. on March 22, 2001.

Dated: December 21, 2000.
John E. Skhor,
U.S. Coast Guard, Commander, Fifth Coast Guard District.

[FR Doc. 01-1212 Filed 1-12-01; 8:45 am]

BILLING CODE 4910-15-M